SMALL BUSINESS ADMINISTRATION

13 CFR Part 121

RIN 3245-AG94

Consolidation of Mentor-Protégé Programs and Other Government Contracting Amendments; Correction

AGENCY: U.S. Small Business Administration.

ACTION: Final rule; correction.

SUMMARY: The U.S. Small Business Administration (SBA) is correcting a final rule that appeared in the Federal Register on October 16, 2020. This rule merged the 8(a) Business Development (BD) Mentor-Protégé Program and the All Small Mentor-Protégé Program to eliminate confusion and remove unnecessary duplication of functions within SBA. This rule also eliminated the requirement that 8(a) Participants seeking to be awarded an 8(a) contract as a joint venture submit the joint venture agreement to SBA for review and approval prior to contract award, revised several 8(a) BD program regulations to reduce unnecessary or excessive burdens on 8(a) Participants, and clarified other related regulatory provisions to eliminate confusion among small businesses and procuring activities. In addition, in response to public comment, the rule required a business concern to recertify its size and/or socioeconomic status for all set-aside orders under unrestricted multiple award contracts, unless the contract authorized limited pools of concerns for which size and/or status was required. This document is making three technical corrections to the final rule.

DATES: Effective November 16, 2020.

FOR FURTHER INFORMATION CONTACT: Mark Hagedorn, U.S. Small Business Administration, Office of General Counsel, 409 Third Street SW, Washington, DC 20416; (202) 205-7625; mark.hagedorn@sba.gov.

SUPPLEMENTARY INFORMATION: In FR Doc. 2020-19428, appearing on page 66146 in the Federal Register of Friday, October 16, 2020, the following corrections are made:

§ 121.103 [Corrected]

1. On page 66180, in the third column, in § 121.103, in paragraph (h)(1)(ii), “Except for sole source 8(a) awards, the joint venture must meet the requirements of § 124.513(c) and (d), § 125.8(b) and (c), § 125.18(b)(2) and (3), § 126.616(c) and (d), or § 127.506(c) and (d) of this chapter, as appropriate, at the time it submits its initial offer including price. For a sole source 8(a) award, the joint venture must demonstrate that it meets the requirements of § 124.513(c) and (d) prior to the award of the contract.” is corrected to read, “Except for sole source 8(a) awards, the joint venture must meet the requirements of § 124.513(c) and (d), § 125.8(b) and (c), § 125.18(b)(2) and (3), § 126.616(c) and (d), or § 127.506(c) and (d) of this chapter, as appropriate, as of the date of the final proposal revision for negotiated acquisitions and final bid for sealed bidding. For a sole source 8(a) award, the joint venture must demonstrate that it meets the requirements of § 124.513(c) and (d) prior to the award of the contract.”

§ 121.404 [Corrected]

2. On page 66180, in the third column, in § 121.404, in amendment 4, instruction (a) “i. Revising paragraphs (a) introductory text and (a)(1); and ii. Adding a paragraph heading to paragraph (a)(2);” is corrected to read, “i. Adding a paragraph heading to paragraphs (a) and (a)(2); and ii. Revising paragraph (a)(1);”.

3. On page 66180, in the third column, in § 121.404, in paragraph (a), “Time of size—” is corrected to read “Time of size * * *”.

4. On page 66181, in the third column, in § 121.404, in paragraph (d), “Nonmanufacturer rule, ostensible subcontractor rule, and joint venture agreements. Size status is determined as of the date of the final proposal revision for negotiated acquisitions and final bid for sealed bidding for the following purposes: compliance with the nonmanufacturer rule set forth in § 121.406(b)(1), the ostensible subcontractor rule set forth in § 121.103(h)(4), and the joint venture agreement requirements in § 124.513(c) and (d), § 125.8(b) and (c), § 125.18(b)(2) and (3), § 126.616(c) and (d), or § 127.506(c) and (d) of this chapter, as appropriate.” is corrected to read, “Nonmanufacturer rule, ostensible subcontractor rule, and joint venture agreements. Compliance with the nonmanufacturer rule set forth in § 121.406(b)(1), the ostensible subcontractor rule set forth in § 121.103(h)(4), and the joint venture agreement requirements in § 124.513(c) and (d), § 125.8(b) and (c), § 125.18(b)(2) and (3), § 126.616(c) and (d), or § 127.506(c) and (d) of this chapter, as appropriate, is determined as of the date of the final proposal revision for negotiated acquisitions and final bid for sealed bidding for the following purposes.”

Francis C. Spampinato,
Associate Administrator, Government Contracting and Business Development.

[FR Doc. 2020-25177 Filed 11-13-20; 8:45 am]

BILLING CODE 8026-03-P